ENVIRONMENTAL PROTECTION AGENCY

[OAR-2004-0228, FRL-7801-5]

Agency Information Collection Activities: Proposed Collection; Comment Request; Reporting and Recordkeeping Activities Associated With EPA's PFC Reduction/Climate Partnership for the Semiconductor Industry, EPA ICR Number 1823.03, OMB Control Number 2060-0382

AGENCY: Environmental Protection Agency.

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on 11/30/2004. Before submitting the ICR to OMB for review and approval, EPA is soliciting comments on specific aspects of the proposed information collection as described below.

DATES: Comments must be submitted on or before October 22, 2004.

ADDRESSES: Submit your comments, referencing docket ID number OAR-2004-0228, to EPA online using EDOCKET (our preferred method), by e-mail to a-and-r-Docket@epa.gov, or by mail to: EPA Docket Center, Environmental Protection Agency, Air and Radiation Docket and Information Center, MC 6102T, 1200 Pennsylvania Ave., NW., Washington, DC 20460.

FOR FURTHER INFORMATION CONTACT: Scott Bartos, Office of Atmospheric Programs, 6202J, Environmental Protection Agency, 1200 Pennsylvania Ave., NW., Washington, DC 20460; telephone number: 202 343-9167; fax number: 202 343-2208; e-mail address: bartos.scott@epa.gov.

SUPPLEMENTARY INFORMATION: EPA has established a public docket for this ICR under Docket ID number OAR-2004-0228, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are those which produce semiconductor devices in the United States.

Title: Reporting and Recordkeeping Activities Associated With EPA's PFC Reduction/Climate Partnership for the Semiconductor Industry.

Abstract: The U.S. EPA's Office of Atmospheric Programs launched the PFC Reduction/Climate Partnership for the Semiconductor Industry in 1996. Perfluorinated compounds (PFCs) are the most potent greenhouse gases known with atmospheric lifetimes of up to 50,000 years. These unique chemical compounds are required during two critical semiconductor manufacturing steps, plasma etching and CVD chamber cleaning. This important voluntary program contributes to the country's overall reduction in greenhouse gas emissions. The program uses a pollution prevention approach to reduce emissions and tracks progress by annually collecting PFC emissions estimates from partners.

EPA's semiconductor industry partners share information on technically feasible emission reduction strategies and EPA recognizes companies for their success in reducing PFC emissions through certificates, awards, and assistance in communicating their achievements with the public. In 2003, EPA's semiconductor industry partners were recognized for their commitment and ongoing efforts to protect the climate as participants in the White House's Climate VISION initiative. All semiconductor manufacturers operating in the U.S. are invited to join the partnership. Participation in the program begins by completing a Memorandum of Understanding that defines a voluntary agreement between the company and EPA. By joining the partnership, a company agrees to track and report an estimate of its PFC emissions to EPA annually. A designated third party assembles the reported data and protects any confidential or sensitive information prior to EPA review. The partner companies' annual reports will provide an estimate of total PFC emissions and a description of the estimating method. The partnership will track progress as a group using the aggregate annual PFC emissions estimate.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: In estimating the expected burden, EPA assumes 21 companies will participate during the three years covered by this proposed ICR.

Average annual reporting burden hours=11,426.

Average burden hours/response=247.

Frequency of response=1/year.

Estimated number of respondents=21.

Estimated total annual cost burden=$839,464.

Total capital and start-up costs=$0.

Total operation and maintenance costs=$116,319.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: August 3, 2004.
Paul Gunning,
Acting Chief, Non-CO2 Programs Branch.

[FR Doc. 04-19149 Filed 8-20-04; 8:45 am]

BILLING CODE 6560-50-P